DEPARTMENT OF VETERANS AFFAIRS

Fund Availability Under the VA Homeless Providers Grant and Per Diem Program

AGENCY: Department of Veterans Affairs.

ACTION: Notice.

SUMMARY: The Department of Veterans Affairs is announcing the availability of funds for applications for assistance under the grant component of VA's Homeless Providers Grant and Per Diem Program. This Notice contains information concerning the program, application process, and amount of funding available.

DATES: An original completed and collated grant application (plus four completed collated copies) for assistance under the VA's Homeless Providers Grant and Per Diem Program must be received in Mental Health Strategic Health Care Group, Washington, DC, by 4:00 PM Eastern Time on June 20, 2001. Applications may not be sent by facsimile (FAX). In the interest of fairness to all competing applicants, this deadline is firm as to date and hour, and VA will treat as ineligible for consideration any application that is received after the deadline. Applicants should take this practice into account and make early submission of their material to avoid any risk of loss of eligibility brought about by unanticipated delays or other delivery-related problems.

For a Copy of the Application Package: Download directly from VA's Grant and Per Diem Program web page at: http://www.va.gov/homeless/page.cfm?pg=3 or call the Grant and Per Diem Program at (toll-free) 1-877-332-0334. For a document relating to the VA Homeless Providers Grant and Per Diem Program, see the final rule codified at 38 CFR Part 17.700.

Submission of Application: An original completed and collated grant application (plus four copies) must be submitted to the following address: Mental Health Strategic Health Care Group (116E), Department of Veterans Affairs, 810 Vermont Avenue, NW, Washington, DC 20420. Applications must be received in the Mental Health Strategic Health Care Group by the application deadline.

FOR FURTHER INFORMATION CONTACT: Roger Casey, VA Homeless Providers Grant and Per Diem Program, Mental Health Strategic Health Care Group (116E), Department of Veterans Affairs, 810 Vermont Avenue, NW, Washington, DC 20420; (toll-free) 1-877-332-0334.

SUPPLEMENTARY INFORMATION: This Notice announces the availability of funds for assistance under VA's Homeless Providers Grant and Per Diem Program for eligible entities to: (1) Expand existing projects; or (2) develop new programs or new components of existing projects. This program is authorized by Public Law 102-590, the Homeless Veterans Comprehensive Service Programs Act of 1992, as amended. Funding applied for under this Notice may be used for: (1) Remodeling or alteration of existing buildings; (2) acquisition of buildings, acquisition and rehabilitation of buildings; (3) new construction; and (4) acquisition of vans for outreach to and/or transportation for homeless veterans. Applicants may apply for more than one type of assistance.

Grant applicants awarded a grant will not be required to complete a separate application for per diem assistance, provided that those applicants seeking per diem for partial operating costs of the project created with the grant, indicate this request on their application. VA will review those portions of the grant application that pertain to per diem and, subject to the availability of funds and meeting eligibility criteria, per diem will be awarded.

Grant applicants may not receive assistance to replace funds provided by any State or local government to assist homeless persons. A proposal for an existing project that seeks to shift its focus by changing the population being served or the precise mix of services being offered is not eligible for consideration. No more than 25 percent of services available in projects funded through this grant program may be provided to clients who are not receiving those services as veterans.

Authority: VA's Homeless Providers Grant and Per Diem Program is authorized by sections 3 and 4 of Public Law 102-590, the Homeless Veterans Comprehensive Service Programs Act of 1992 (38 U.S.C. 7721 note) and has been extended through Fiscal Year 2003 by Public Law 106-117. The program is implemented by the final rule codified at 38 CFR Part 17.700. The final rule was published in the Federal Register on June 1, 1994, and February 27, 1995, and revised February 11, 1997. The regulations can be found in their entirety in 38 CFR, Volume 1, Sec. 17.700 through 17.731, revised July 1, 1997. Funds made available under this Notice are subject to the requirements of those regulations.

Allocation: Approximately $10 million is available for the grant component of this program.

Application Requirements: The specific grant application requirements will be specified in the application package. The package includes all required forms and certifications. Conditional selections will be made based on criteria described in the application. Applicants who are conditionally selected will be notified of the additional information needed to confirm or clarify information provided in the application. Applicants will then have approximately one month to submit such information.

If an applicant is unable to meet any conditions for grant award within the specified time frame, VA reserves the right to not award funds and to use the funds available for other grant and per diem applicants.

Dated: April 20, 2001.
Anthony J. Principi,
Secretary of Veterans Affairs.

[FR Doc. 01-10456 Filed 4-26-01; 8:45 am]

BILLING CODE 8320-01-P